DEPARTMENT OF ENERGY

Federal Energy Regulatory Commission

[Docket No. RP02-129-002]

Southern LNG Inc.; Notice of Compliance Filing

March 14, 2002.

Take notice that on March 1, 2002, Southern LNG Inc., (Southern) hereby supplements its December 21, 2001 limited Section 4 filing pursuant to the Commission's January 31, 2002 order.¹

¹ Southern LNG Inc., 98 FERC ¶ 61,088 (2002).

Southern states that the supplements consists of additional information in support of increased costs to recommission and modify the Elba Island liquefied natural gas terminal in Docket Nos. CP99-580.

Southern states that copies of the filing has been served to all customers and interested state commissions.

Any person desiring to protest said filing should file a protest with the Federal Energy Regulatory Commission, 888 First Street, NE, Washington, DC 20426, in accordance with Section 385.211 of the Commission's Rules and Regulations. All such protests must be filed on or before March 21, 2002. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-6702 Filed 3-19-02; 8:45 am]

BILLING CODE 6717-01-P